COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products previously furnished by such agencies.

DATES: Comments must be received on or before July 16, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the service listed below from a nonprofit agency employing persons who are blind or have other severe disabilities.

The following service is proposed for addition to the Procurement List for production by the nonprofit agency listed:

Service

Service Type: Grounds Maintenance Service

Mandatory for: U.S. Coast Guard, U.S. Coast Guard Base Los Angeles/Long Beach 1001 S. Seaside Avenue, San Pedro, CA

Mandatory Source(s) of Supply: Goodwill Industries of Southern California, Panarama City, CA

Contracting Activity: U.S. Coast Guard, SILC BSS (00084)

Deletions

The following products are proposed for deletion from the Procurement List:

Products

NSN(s)—Product Name(s): MR 1031—Rag, Cleaning, Red

Mandatory Source(s) of Supply: Winston-Salem Industries for the Blind, Inc., Winston-Salem, NC

Contracting Activity: Defense Commissary Agency

NSN(s)—Product Name(s): 7210-00-682-6504—Mattress, Foam

Mandatory Source(s) of Supply: Lions Volunteer Blind Industries, Inc., Morristown, TN Contracting Activity: General Services Administration, Fort Worth, TX

NSN(s)—Product Name(s): 7510-01-431-6520—Foam Stamp Pad, Size #1, 2¾″ x 4¼″, Blue. 7510-01-431-6528—Foam Stamp Pad, Size #3, 4½″ x 7½″, Blue

Mandatory Source(s) of Supply: Cattaraugus County Chapter, NYSARC, Olean, NY

Contracting Activity: General Services Administration, New York, NY

Amy B. Jensen,
Director, Business Operations.

[FR Doc. 2017-12526 Filed 6-15-17; 8:45 am]

BILLING CODE 6353-01-P